FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 011290-044.

Agreement Name: International Vessel Operators Dangerous Goods Association Agreement.

Parties: Bermuda Container Line Ltd.; Crowley Caribbean Services LLC, Crowley Latin American Services, LLC (dba a single party); COSCO Shipping Lines Company, Ltd.; Evergreen Marine Corp (Taiwan) Ltd.; Hapag-Lloyd AG; HMM Company Limited; Independent Container Line Ltd.; Klinge Corporation (associate party); Maersk A/S; Matson Navigation Company; National Cargo Bureau (associate party); Ocean Network Express Pte. Ltd.; Orient Overseas Container Line Limited; Seaboard Marine Ltd.; Tampa Bay International Terminals, Inc. (associate party); Tropical Shipping & Construction Company Limited, LLC; Wallenius Wilhelmensen Ocean AS; Wan Hai Lines Ltd.; Yang Ming Marine Transport Corporation; and ZIM Integrated Shipping Services Ltd.

Filing Party: Wayne Rohde, Cozen O'Connor.

Synopsis: The amendment adds ZIM Integrated Shipping Services, Ltd. as a party to the Agreement and corrects the names and/or addresses of several of the other parties.

Proposed Effective Date: 6/30/2023.

Location: https://www2.fmc.gov/FMC.Agreements.Web/Public/AgreementHistory/1638.

Agreement No.: 201349-003.

Agreement Name: World Shipping Council Agreement.

Parties: COSCO Shipping Lines Co., Ltd., Orient Overseas Container Line Ltd., and OOCL (Europe) Limited (acting as a single party); CMA CGM S.A., APL Co. Pte. Ltd., American President Lines, LLC and ANL Singapore Pte Ltd. (acting as a single party); Crowley Caribbean Services, LLC and Crowley Latin America Services, LLC (acting as a single party); Evergreen Marine Corporation (Taiwan) Ltd.; Hapag-Lloyd AG; HMM Company Limited; Independent Container Line, Ltd.; Kawasaki Kisen Kaisha Ltd., Maersk A/S and Hamburg Sud (acting as a single party); Matson Navigation Company, Inc.; MSC Mediterranean Shipping Company SA; Mitsui O.S.K. Lines Ltd.; Nippon Yusen Kaisha; Ocean Network Express Pte. Ltd.; Swire Shipping, Pte. Ltd.; Wallenius Wilhelmsen Ocean AS; Wan Hai Lines Ltd. and Wan Hai Lines (Singapore) Pte Ltd. (acting as a single party); Yang Ming Marine Transport Corp.; and Zim Integrated Shipping Services, Ltd.

Filing Party: Robert Magovern, Cozen O'Connor.

Synopsis: The Amendment authorizes the WSC members to (i) discuss and agree upon voluntary best practices relating to minimum safety standards for screening and inspecting dangerous cargo, (ii) establish and administer a common digital solutions tool for the cargo screening process (including through a third-party vendor), and (iii) create and maintain databases of shippers and cargo inspection companies that demonstrate conformance with minimum safety standards.

Proposed Effective Date: 7/1/2023.

Location: https://www2.fmc.gov/FMC.Agreements.Web/Public/AgreementHistory/34503.

Dated: May 18, 2023.
JoAnne O'Bryant,
Program Analyst.

[FR Doc. 2023-10977 Filed 5-22-23; 8:45 am]

BILLING CODE 6730-02-P